DEPARTMENT OF ENERGY

Federal Energy Regulatory Commission

[Docket No. RP03-244-000]

Southern LNG Inc.; Notice of Proposed Changes to FERC Gas Tariff

February 5, 2003.

Take notice that on January 29, 2003, Southern LNG Inc. (“SLNG”) tendered for filing the following revised sheets to its FERC Gas Tariff, Original Volume No. 1:

Sixth Revised Sheet No. 5

Sixth Revised Sheet No. 6

SLNG states that the revised sheets track maintenance costs associated with the turning basin and berths for ships calling on the LNG import terminal on Elba Island, Georgia, pursuant to the tracker mechanism of its tariff approved as part of the settlement in Docket No. RP02-129. SLNG states that this filing increases the dredging surcharge from the current $0.0428 per Dth to $0.0529 per Dth. SLNG proposes to make the increased surcharge effective March 1, 2003, as provided in the tariff sheets and the Commission's order approving the settlement.

Any person desiring to be heard or to protest said filing should file a motion to intervene or a protest with the Federal Energy Regulatory Commission, 888 First Street, NE., Washington, DC 20426, in accordance with sections 385.214 or 385.211 of the Commission's rules and regulations. All such motions or protests must be filed n accordance with section 154.210 of the Commission's regulations. Protests will be considered by the Commission in determining the appropriate action to be taken, but will not serve to make protestants parties to the proceeding. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 10, 2003.

Magalie R. Salas,
Secretary.

[FR Doc. 03-3362 Filed 2-10-03; 8:45 am]

BILLING CODE 6717-01-P